DEPARTMENT OF THE INTERIOR

Bureau of Land Management

[WY-957-07-1910-BJ-5RKC]

Notice of Filing of Plats of Survey, Wyoming

AGENCY: Bureau of Land Management, Interior.

ACTION: Notice of filing of plats of survey, Wyoming.

SUMMARY: The Bureau of Land Management (BLM) is scheduled to file the plat of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of a portion of the subdivisional lines and the survey of the subdivision of section 22, and the metes and bounds surveys of Parcels A and B, section 22, Township 42 North, Range 95 West, of the Sixth Principal Meridian, Wyoming, was accepted November 9, 2006.

The plat and field notes representing the dependent resurvey of a portion of the south boundary of the Wind River Indian Reservation and subdivisional lines, and the survey of the subdivision of section 20, and the metes and bounds survey of certain lots in section 20, Township 2 South, Range 1 West, Wind River Meridian, Wyoming, was accepted November 9, 2006.

The plat and field notes representing the dependent survey of portions of the north boundary, subdivisional lines, subdivision of sections and certain tracts, and the survey of the subdivision of section 11, and the metes and bounds surveys of certain parcels, Township 3 North, Range 2 East, of the Wind River Meridian, Wyoming, was accepted November 17, 2006.

Copies of the preceding described plat and field notes are available to the public at a cost of $1.10 per page.

Dated: November 20, 2006.
John P. Lee,
Chief Cadastral Surveyor, Division of Support Services.

[FR Doc. E6-20087 Filed 11-27-06; 8:45 am]

BILLING CODE 4467-22-P